DEPARTMENT OF TRANSPORTATION

Federal Aviation Administration

14 CFR Part 39

[Docket No. FAA-2013-0702; Directorate Identifier 2012-NM-181-AD; Amendment 39-17753; AD 2014-03-15]

RIN 2120-AA64

Airworthiness Directives; 328 Support Services GmbH (Type Certificate Previously Held by AvCraft Aerospace GmbH; Fairchild Dornier GmbH; Dornier Luftfahrt GmbH) Airplanes

AGENCY: Federal Aviation Administration (FAA), Department of Transportation (DOT).

ACTION: Final rule.

SUMMARY: We are superseding airworthiness directive (AD) 2008-14-16 for certain 328 Support Services GmbH (Type Certificate Previously Held by AvCraft Aerospace GmbH; Fairchild Dornier GmbH; Dornier Luftfahrt GmbH) Model 328-100 and 328-300 airplanes. AD 2008-14-16 required installing warning placards on the inside of the passenger door and service doors and modifying the hinge supports and support struts of the passenger doors. This new AD continues to require the actions required by AD 2008-14-16 and also requires replacing the fasteners which were installed as part of the modification with new fasteners of the correct length, adds new airplanes, and removes one airplane. This AD was prompted by reports that certain fasteners, which were installed as part of the modification, are the wrong length. We are issuing this AD to prevent incidents of inadvertent opening and possible detachment of a passenger door in-flight, resulting in damage to airframe and systems and loss of control of the airplane.

DATES: This AD becomes effective April 9, 2014.

The Director of the Federal Register approved the incorporation by reference of certain publications listed in this AD as of April 9, 2014.

The Director of the Federal Register approved the incorporation by reference of certain other publications listed in this AD as of August 21, 2008 (73 FR 40955, July 17, 2008).

ADDRESSES: You may examine the AD docket on the Internet at http://www.regulations.gov/#!docketDetail;D=FAA-2013-0702; or in person at the Docket Management Facility, U.S. Department of Transportation, Docket Operations, M-30, West Building Ground Floor, Room W12-140, 1200 New Jersey Avenue SE., Washington, DC.

For service information identified in this AD, contact 328 Support Services GmbH, Global Support Center, P.O. Box 1252, D-82231 Wessling, Federal Republic of Germany; telephone +49 8153 88111 6666; fax +49 8153 88111 6565; email gsc.op@328support.de; Internet http://www.328support.de. You may view this referenced service information at the FAA, Transport Airplane Directorate, 1601 Lind Avenue SW., Renton, WA. For information on the availability of this material at the FAA, call 425-227-1221.

FOR FURTHER INFORMATION CONTACT: Todd Thompson, Aerospace Engineer, International Branch, ANM-116, Transport Airplane Directorate, FAA, 1601 Lind Avenue SW, Renton, WA 98057-3356; telephone (425) 227-1175; fax (425) 227-1149.

SUPPLEMENTARY INFORMATION:

Discussion

We issued a notice of proposed rulemaking (NPRM) to amend 14 CFR part 39 to supersede AD 2008-14-16, Amendment 39-15611 (73 FR 40955, July 17, 2008). AD 2008-14-16 applied to certain 328 Support Services GmbH (Type Certificate Previously Held by AvCraft Aerospace GmbH; Fairchild Dornier GmbH; Dornier Luftfahrt GmbH) Model 328-100 and 328-300 airplanes. The NPRM published in the Federal Register on August 27, 2013 (78 FR 52872). The NPRM was prompted by reports that certain fasteners, which were installed as part of the modification, are the wrong length. The NPRM proposed to continue to require installing warning placards on the inside of the passenger door and service doors and modifying the hinge supports and support struts of the passenger doors. The NPRM also proposed to require replacing the fasteners which were installed as part of the modification with new fasteners of the correct length, adds new airplanes, and removes one airplane. We are issuing this AD to prevent incidents of inadvertent opening and possible detachment of a passenger door in-flight, resulting in damage to airframe and systems and loss of control of the airplane.

The European Aviation Safety Agency (EASA), which is the aviation authority for Member States of the European Community, has issued EASA Airworthiness Directive 2012-0183R1, dated September 28, 2012 (referred to after this as the Mandatory Continuing Airworthiness Information, or “the MCAI”), to correct an unsafe condition for the specified products. The MCAI states:

At least one incident occurred where, immediately after take-off, the passenger door of a Dornier 328 aeroplane completely opened. The flight crew reportedly had no cockpit indication or audible chime prior to this event. The aeroplane returned to the departure airfield and made an uneventful emergency landing. Substantial damage to the door, handrails, door hinge arms and fuselage skin were found.

The subsequent investigation could not find any deficiency in the design of the main cabin door locking mechanism. In addition, no technical failure could be determined that precipitated the event. The flight data recorder showed that the door was closed and locked before take-off and opened shortly afterwards. Although final proof could not be obtained, the most likely way in which the door opened was that the door handle was inadvertently operated during the take-off run.

In response to the incident, AvCraft (the TC holder at the time) developed a placard set to warn the occupants against touching the door handle, as well as a structural modification of the passenger door hinge supports described in [Dornier 328 Support Services] Service Bulletin (SB) SB-328-52-460 and SB-328J-52-213 to make certain that the door does not separate from the aeroplane when inadvertently opened during flight, allowing a safe descent and landing.

EASA issued AD 2007-0199 (http://ad.easa.europa.eu/ad/2007-0199) to require the installation of warning placards and modification as detailed in these SB instructions.

Since that [EASA] AD [2007-0199] was issued, 328 Support Services GmbH (the current type certificate holder) have determined that certain fasteners, identified by Part Number (P/N) NAS6703U1 and P/N NAS6703U2, which were installed as part of the modification, have the wrong length and must be replaced.

For the reasons described above, this [EASA] AD retains the requirements of EASA AD 2007-0199, which is superseded, and requires replacement of the affected fasteners by the ones that have the correct length.

This [EASA] AD has been revised to correct and clarify the actions required by paragraph (3).

This AD also adds new airplanes and removes one airplane from the applicability of this AD. You may examine the MCAI in the AD docket on the Internet at http://www.regulations.gov/#!docketDetail;D=FAA-2013-0702.

Comments

We gave the public the opportunity to participate in developing this AD. We received no comments on the NPRM (78 FR 52872, August 27, 2013), or on the determination of the cost to the public.

Conclusion

We reviewed the available data and determined that air safety and the public interest require adopting this AD as proposed except for minor editorial changes. We have determined that these minor changes:

• Are consistent with the intent that was proposed in the NPRM (78 FR 52872, August 27, 2013) for correcting the unsafe condition; and

• Do not add any additional burden upon the public than was already proposed in the NPRM (78 FR 52872, August 27, 2013).

Costs of Compliance

We estimate that this AD affects 35 airplanes of U.S. registry.

The actions that are required by AD 2008-14-16, Amendment 39-15611 (73 FR 40955, July 17, 2008), and retained in this AD take about 38 work-hours per product, at an average labor rate of $85 per work-hour. Required parts cost about $11,961 per product. Based on these figures, the estimated cost of the actions that were required by AD 2008-14-16 is $15,191 per product.

We also estimate that it will take about 25 work-hours per product to comply with the new basic requirements of this AD. The average labor rate is $85 per work-hour. Required parts will cost about $0 per product. Based on these figures, we estimate the cost of this AD on U.S. operators to be $74,375, or $2,125 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that

authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0702; or in person at the Docket Management Facility between 9 a.m. and 5 p.m., Monday through Friday, except Federal holidays. The AD docket contains this AD, the regulatory evaluation, any comments received, and other information. The street address for the Docket Operations

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-14-16, Amendment 39-15611 (73 FR 40955, July 17, 2008), and adding the following new AD:

2014-03-15 328 Support Services GmbH (Type Certificate Previously Held by AvCraft Aerospace GmbH; Fairchild Dornier GmbH; Dornier Luftfahrt GmbH): Amendment 39-17753. Docket No. FAA-2013-0702; Directorate Identifier 2012-NM-181-AD.

(a) Effective Date

This airworthiness directive (AD) becomes effective April 9, 2014.

(b) Affected ADs

This AD supersedes AD 2008-14-16, Amendment 39-15611 (73 FR 40955, July 17, 2008).

(c) Applicability

This AD applies to 328 Support Services GmbH (Type Certificate previously held by AvCraft Aerospace GmbH; Fairchild Dornier GmbH; Dornier Luftfahrt GmbH) airplanes, certificated in any category, identified in paragraphs (c)(1) and (c)(2) of this AD.

(1) Model 328-100 airplanes, serial numbers 3005 through 3101 inclusive, 3103, 3104, 3106, 3109, 3110, 3112, 3113, 3115, 3117, and 3119.

(2) Model 328-300 airplanes, all serial numbers.

(d) Subject

Air Transport Association (ATA) of America Code 11, Placards and Markings; and Code 52, Doors.

(e) Reason

This AD was prompted by reports that certain fasteners, which were installed as part of a modification, are the wrong length. We are issuing this AD to prevent incidents of inadvertent opening and possible detachment of a passenger door in-flight, resulting in damage to airframe and systems and loss of control of the airplane.

(f) Compliance

You are responsible for having the actions required by this AD performed within the compliance times specified, unless the actions have already been done.

(g) Retained Installation and Modification for Airplanes Identified in AD 2008-14-16, Amendment 39-15611 (73 FR 40955, July 17, 2008) With Revised Service Information

This paragraph restates the requirements of paragraph (f) of AD 2008-14-16, Amendment 39-15611 (73 FR 40955, July 17, 2008), with revised service information.

(1) For Model 328-100 airplanes, serial numbers 3005 through 3098 inclusive, 3100, 3106, 3109, 3110, 3112, 3113, 3115, 3117, and 3119; and Model 328-300 airplanes, having serial numbers 3102, 3105, 3108, 3111, 3114, 3116, 3118, and 3120 through 3224 inclusive: Within 30 days after August 21, 2008, (the effective date of AD 2008-14-16, Amendment 39-15611 (73 FR 40955, July 17, 2008)), install warning placards on the inside of the passenger door and service doors, in accordance with the Accomplishment Instructions of the service information specified in paragraph (g)(1)(i) or (g)(1)(ii) of this AD, as applicable.

(i) Dornier Service Bulletin SB-328-11-454, dated May 3, 2004 (for Model 328-100 airplanes).

(ii) Dornier Service Bulletin SB-328J-11-209, dated May 3, 2004 (for Model 328-300 airplanes).

(2) For Model 328-100 airplanes, serial numbers 3005 through 3098 inclusive, 3100, 3106, 3109, 3110, 3112, 3113, 3115, 3117, and 3119; and Model 328-300 airplanes, having serial numbers 3102, 3105, 3108, 3111, 3114, 3116, 3118, and 3120 through 3224 inclusive: Within 12 months after August 21, 2008, the effective date of AD 2008-14-16, Amendment 39-15611 (73 FR 0955, July 17, 2008), modify the hinge supports and support struts of the passenger doors, in accordance with the Accomplishment Instructions of the service information specified in paragraphs (g)(2)(i) through (g)(2)(iv) of this AD, as applicable. As of the effective date of this AD only the service information specified in paragraph (g)(2)(ii) or (g)(2)(iv) of this AD, as applicable, may be used.

(i) Dornier Service Bulletin SB-328-52-460, dated February 4, 2005 (for Model 328-100 airplanes).

(ii) 328 Support Services Service Bulletin SB-328-52-460, Revision 2, dated March 1, 2012 (for Model 328-100 airplanes).

(iii) Dornier Service Bulletin SB-328J-52-213, dated February 4, 2005, (for Model 328-300 airplanes).

(iv) 328 Support Services Service Bulletin SB-328J-52-213, Revision 1, dated August 17, 2011 (for Model 328-300 airplanes).

(h) New Installation and Modification for Newly Added Airplanes

For airplanes not identified in paragraph (g) of this AD, do the actions required by paragraphs (h)(1) and (h)(2) of this AD.

(1) Within 30 days after the effective date of this AD, install warning placards on the inside of the passenger door and service doors, in accordance with the Accomplishment Instructions of Dornier Service Bulletin SB-328-11-454, dated May 3, 2004 (for Model 328-100 airplanes); or Dornier Service Bulletin SB-328J-11-209, dated May 3, 2004 (for Model 328-300 airplanes); as applicable.

(2) Within 12 months after the effective date of this AD, modify the hinge supports and support struts of the passenger doors, in accordance with the Accomplishment Instructions of 328 Support Services Service Bulletin SB-328-52-460, Revision 2, dated March 1, 2012 (for Model 328-100 airplanes); or 328 Support Services Service Bulletin SB-328J-52-213, Revision 1, dated August 17, 2011 (for Model 328-300 airplanes); as applicable.

(i) New Replacement of Fasteners for All Airplanes

For airplanes on which 26 part number NAS6703U1 fasteners were installed as specified in the service information in paragraphs (g)(2)(i) and (g)(2)(iii) of this AD: Within 6 months after the effective date of this AD, replace the 20 affected part number NAS6703U1 fasteners with new fasteners having part number NAS6703U2, in accordance with the Accomplishment Instructions of 328 Support Services Service Bulletin SB-328-52-460, Revision 2, dated March 1, 2012 (for Model 328-100 airplanes); or 328 Support Services Service Bulletin SB-328J-52-213, Revision 1, dated August 17, 2011 (for Model 328-300 airplanes); as applicable.

Note 1 to paragraph (i) of this AD: 328 Support Services Service Bulletin SB-328-52-460, Revision 2, dated March 1, 2012, and 328 Support Services Service Bulletin SB-328J-52-213, Revision 1, dated August 17, 2011, identify 20 of 26 part number NAS6703U1 fasteners requiring to be replaced due to incorrect length.

(j) Credit for Previous Actions

This paragraph provides credit for certain actions required by paragraph (g) and (h)(2) of this AD, if those actions were performed before the effective date of this AD using 328 Support Services Service Bulletin SB-328-52-460, Revision 1, dated August 17, 2011, which is not incorporated by reference.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, WA 98057-3356; telephone (425) 227-1175; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to Mandatory Continuing Airworthiness Information (MCAI) European Aviation Safety Agency Airworthiness Directive 2012-0183R1, dated September 28, 2012, for related information. You may examine the MCAI in the AD docket on the Internet at http://www.regulations.gov/#!docketDetail;D=FAA-2013-0702.

(2) Service information identified in this AD that is not incorporated by reference in this AD may be obtained at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 9, 2014.

(i) 328 Support Services Service Bulletin SB-328-52-460, Revision 2, dated March 1, 2012.

(ii) 328 Support Services Service Bulletin SB-328J-52-213, Revision 1, dated August 17, 2011.

(4) The following service information was approved for IBR on August 21, 2008 (73 FR 40955, July 17, 2008).

(i) Dornier Service Bulletin SB-328-11-454, dated May 3, 2004.

(ii) Dornier Service Bulletin SB-328J-11-209, dated May 3, 2004.

(iii) Dornier Service Bulletin SB-328-52-460, dated February 4, 2005.

(iv) Dornier Service Bulletin SB-328J-52-213, dated February 4, 2005.

(5) For service information identified in this AD, contact 328 Support Services GmbH, Global Support Center, P.O. Box 1252, D-82231 Wessling, Federal Republic of Germany; telephone +49 8153 88111 6666; fax +49 8153 88111 6565; email gsc.op@328support.de; Internet http://www.328support.de.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on January 31, 2014.
John P. Piccola,
Acting Manager, Transport Airplane Directorate, Aircraft Certification Service.

[FR Doc. 2014-02995 Filed 3-4-14; 8:45 am]

BILLING CODE 4910-13-P